SMALL BUSINESS ADMINISTRATION

[Declaration of Disaster #3449]

State of Louisiana

As a result of the President's major disaster declaration on September 27, 2002, I find that Iberia, Jefferson, Lafourche, Livingston, Orleans, Plaquemines, St. Bernard, St. Charles, St. John the Baptist, St. Tammany, Tangipahoa and Terrebonne Parishes in the State of Louisiana constitute a disaster area due to damages caused by Tropical Storm Isidore occurring on September 21, 2002, and continuing. Applications for loans for physical damage as a result of this disaster may be filed until the close of business on November 26, 2002 and for economic injury until the close of business on June 27, 2003 at the address listed below or other locally announced locations: U.S. Small Business Administration, Disaster Area 3 Office, 4400 Amon Carter Blvd., Suite 102, Fort Worth, TX 76155.

In addition, applications for economic injury loans from small businesses located in the following contiguous parishes and counties may be filed until the specified date at the above location: Ascension, Assumption, East Baton Rouge, East Feliciana, Iberville, Lafayette, St. Helena, St. James, St. Martin, St. Mary, Vermilion and Washington in the State of Louisiana; Amite, Hancock, Pearl River and Pike counties in the State of Mississippi.

The interest rates are:

| Percent
For Physical Damage:
Homeowners with Credit Available Elsewhere, | 6.625
Homeowners without Credit Available Elsewhere, | 3.312
Businesses with Credit Available Elsewhere, | 7.000
Businesses and Non-Profit Organizations without Credit Available Elsewhere, | 3.500
Others (Including Non-Profit Organizations) with Credit Available Elsewhere, | 6.375
For Economic Injury: Businesses and Small Agricultural Cooperatives Without Credit Available Elsewhere, | 3.500

The number assigned to this disaster for physical damage is 344911. For economic injury the number is 9R8500 for Louisiana; and 9R8600 for Mississippi.

(Catalog of Federal Domestic Assistance Program Nos. 59002 and 59008)
Dated: September 30, 2002.
Herbert L. Mitchell,
Associate Administrator for Disaster Assistance.

[FR Doc. 02-25267 Filed 10-3-02; 8:45 am]

BILLING CODE 8025-01-P